DEPARTMENT OF THE INTERIOR

National Park Service

National Register of Historic Places; Notification of Pending Nominations

Nominations for the following properties being considered for listing in the National Register were received by the National Park Service before October 25, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, (202) 371-6447. Written or faxed comments should be submitted by December 4, 2003.

Carol D. Shull,
Keeper of the National Register of Historic Places.

Georgia

Fulton County

Wallace, Anne, Branch—Carnegie Library of Atlanta, 535 Luckie St. NW., Fulton, 03001223.

Kentucky

Allen County

Dumont Hill, 0.25 mi. N of KY 1386, Scottsville, 03001227.

Barren County

Glasgow Central Business District (Boundary Increase), Roughly bounded by Water St., Broadway St., Wayne St., and Liberty St., Glasgow, 03001228.

North Race Street Historic District (Boundary Increase), (Barren County MRA), Roughly bounded by Happy Valley Rd., Green St., Garmon Ave. and Front St., Glasgow, 03001229.

Southwest Glasgow Residential District (Boundary Increase), (Barren County MRA), Roughly bounded by Washington St., Broadway St., Brookdale Dr., Cottage Ave., and Jefferson St., Glasgow, 03001230.

Boone County

Rabbit Hash Historic District, (Boone County, Kentucky MPS), Roughly along Lower River Rd., Rabbit Hash, 03001231.

Bullitt County

Lebanon Junction Historic District, Roughly bounded by Maple St., KY 61, Knoxville Ave. and Harrel and Masden Sts., Lebanon Junction, 03001224.

Jefferson County

Pendennis Club, 218 W. Walnut St., Louisville, 03001225.

Pike County

Stone Historic District, Portions of Pond Creek and Hensley Hollow Rds., Baptist, Irick, Eastern and May Sts., and Trout Town Ln., Stone, 03001226.

Louisiana

Orleans Parish

Sister Stanislaus Memorial Building, 450 S. Claiborne Ave., New Orleans, 03001233.

Pointe Coupee Parish

Dupre, Jacques, House, (Louisiana's French Creole Architecture MPS), 13987 Chenal Rd., Jarreau, 03001232.

Massachusetts

Hampden County

New Bay Diner Restaurant, (Diners of Massachusetts MPS), 950 Bay St., Springfield, 03001244.

Middlesex County

Whit's Diner, (Diners of Massachusetts MPS), 184A Fountain St., Framingham, 03001243.

Worcester County

Miss Toy Town Diner, (Diners of Massachusetts MPS), 102 Main St., Gardner, 03001242.

New Mexico

Bernalillo County

Manzano Court Addition Historic District, (Twentieth Century Suburban Growth of Albuquerque MPS), 1000-1025 Manzano Court NW., Albuquerque, 03001234.

New York

Albany County

Bennett Hill Farm, Bennett Hill Rd. at Rowe Rd., New Scotland, 03001241.

Nassau County

Goodyear, A. Conger, House, 14 Orchard Ln., Old Westbury, 03001246.

Otsego County

Oneonta Downtown Historic District, Main, Chestnut, Dietz, Market, Elm, Water, Wall, S. Main Sts., Oneonta, 03001245.

Saratoga County

Noxon Bank Building, 9 Terminal Rd., Crescent, 03001247.

North Carolina

Pitt County

Renston Rural Historic District, Approx 2.5 mi along NC 903, roughly bounded by NC 1127 and Stokes Ln., Winterville, 03001236.

Oklahoma

Canadian County

Bridgeport Hill Service Station, (Route 66 in Oklahoma MPS), Jct. Old Route 66 and U.S. 281 Spur, Geary, 03001239.

Creek County

Little Deep Fork Creek Bridge, (Route 66 in Oklahoma MPS), 0.33 mi. E of jct. of E0830 Rd. and N3700 Rd., Bristow, 03001237.

Lincoln County

Ozark Trails Section of Route 66, (Route 66 in Oklahoma MPS), Jct. of N3540 Rd and E0890 Rd W to jct. of E0890 Rd. and St. Louis and San Francisco RR tracks, Stroud, 03001235.

Osage County

Lincoln Colored School, 171 NE Walnut, Fairfax, 03001238.

Ottawa County

Narcissa D-X Gas Station, (Route 66 in Oklahoma MPS), 15050 S. OK 69, Miami, 03001240.

Vermont

Windsor County

Christian Street Rural Historic District, Christian St., Hemlock Ridge Dr., and Jericho St., Hartford, 03001248.

Virginia

Greene County

Skyline Drive Historic District (Boundary Increase), Shenandoah National Park, Skyland, Lewis Mountain and Big Meadows, Luray, 03001251.

Wisconsin

Jefferson County

Solliday, Albert F., House, 114 S. Church St., Watertown, 03001249.

Wyoming

Albany County

Lincoln School, 209 S. Cedar St., Laramie, 03001252.

Teton County

George Washington Memorial Park, Bet. Cache, Center, Broadway, and Deloney, Jackson, 03001250.

Huff Memorial Library 320 S. King St. Jackson, 03001253.

Requests for REMOVAL have been made for the following resources:

Kentucky

Red Bird River Petroglyph (15CY51), (Prehistoric Rock Art Sites in Kentucky MPS), Address Restricted, Eriline vicinity, 89001182.

Louisiana

St. Landry Parish

Dupre, Jacques, House, Off U.S. 167, N of Opelousas, Opelousas vicinity, 90000543.

Pennsylvania

Risser's Mill Covered Bridge, (Covered Bridges of Lancaster County TR), SW. of Manheim of LR 36069, Rapho/Mount Joy Townships Manheim vicinity, 80004612.

[FR Doc. 03-28840 Filed 11-18-03; 8:45 am]

BILLING CODE 4312-51-P